DEPARTMENT OF STATE

[Public Notice 4348]

Establishment of the Advisory Committee on Cultural Diplomacy

Establishment of advisory committee: This notice is published in accordance with the provisions of the Federal Advisory Committee Act (Pub. L. 92-463), and advises of the establishment of the Department of States Advisory Committee on Cultural Diplomacy. The Secretary of State has determined that the establishment of the committee is in the public interest and fulfills the requirements set forth in Pub. L. 107-228, section 224.

Purpose of the advisory committee: The Advisory Committee on Cultural Diplomacy will advise the Secretary on programs and policies to advance the use of cultural diplomacy in United States foreign policy.

FOR FURTHER INFORMATION CONTACT: The Bureau of Educational and Cultural Affairs, Office of Citizen Exchanges, Cultural Programs Division is the organization within the Department of State that is supporting this advisory committee. For additional information, contact Angier Peavey, Advisory Committee Management Secretariat 301 Fourth Street SW., Washington DC 20547, telephone (202) 619-4809.

Dated: July 30, 2003.
Patricia S. Harrison,
Assistant Secretary, Bureau of Educational and Cultural Affairs, Department of State.

[FR Doc. 03-21907 Filed 8-26-03; 8:45 am]

BILLING CODE 4710-05-P